DEPARTMENT OF THE INTERIOR

Bureau Of Land Management

[NV-930-1430-EU; N-59971]

Nye County, Nevada; Notice of Realty: Non-Competitive Sale of Public Lands

AGENCY: Bureau of Land Management.

ACTION: Non-Competitive sale of public lands in Nye County, Nevada.

SUMMARY: The following described lands near Beatty, Nye County, Nevada, have been examined and found suitable for sale utilizing non-competitive sale procedures, at the appraised fair market value of $42,000:

Mount Diablo Meridian, Nevada,

T. 12 S., R. 47 E., sec. 18, E½NE¼NE¼NW¼, E½W½NE¼NE¼NW¼;

Totaling 7.5 acres more or less.

The sale proponent is Fred McMillan of Beatty, Nevada. The purpose of the sale is to resolve unauthorized use and development. Authority for the sale is Section 203 and Section 209 of the Federal Land Policy and Management Act of October 21,1976 (43 U.S.C. 1701,1713, 1719).

The above-described lands are hereby classified for disposal in accordance with Section 7 of the Taylor Grazing Act, 43 U.S.C. 315f, Act of June 28, 1934, as amended, and Executive Order 6910. The patent, when issued, will contain the following reservations to the United States:

1. A right-of-way thereon for ditches and canals constructed by authority of the United States, Act of August 30, 1890 (43 U.S.C. 945).

And will be subject to the following:

1. Those rights granted to Nye County for the purposes of an access road (Cottonwood Lane) by right-of-way number N-45241.

2. Valid existing rights.

The mineral interests have no known value and will be conveyed simultaneously with the sale of the land. Acceptance of the sale offer will constitute an application for conveyance of the mineral interests. The purchaser will be required to pay a $50.00 non-refundable filing fee for conveyance of the mineral interests. The purchaser will have 30 days from the date of receiving the sale offer to accept the offer and to submit a deposit of 30 percent of the purchase price, the $50.00 filing fee for conveyance of mineral interests, and payment for publication costs. The purchaser must remit the remainder of the purchase price within 90 days from the date the sale offer is received. Payments must be by certified check, postal money order, bank draft or cashiers check payable to the U.S. Department of the Interior—BLM. Failure to meet conditions established for this sale will void the sale and any monies received will be forfeited.

DATES: Comments must be submitted by October 30, 2003.

ADDRESS: Bureau of Land Management, Tonopah Field Station, 1553 South Main Street,Post Office Box 911, Tonopah, Nevada 89049.

FOR FURTHER INFORMATION CONTACT: Wendy Seley, Realty Specialist, at the above address or at (775) 482-7800.

SUPPLEMENTARY INFORMATION: This parcel of land located near Beatty, Nevada, is being offered for sale through non-competitive sale procedures. Non-competitive sale procedures are utilized because the sale will resolve unauthorized use pursuant to Title 43 Code of Federal Regulations § 2711.3-3(a)(5). The land is not required for Federal purposes. The proposed action is consistent with the objectives, goals, and decisions of the Tonopah Resource Management Plan.

Publication of this Notice in the Federal Register segregates the subject lands from all appropriations under the public land laws, including the general mining laws, except sale under the Federal Land Policy and Management Act of 1976. The segregation will terminate upon issuance of the patent or June 11, 2004, which ever occurs first.

For a period until October 30, 2003, interested parties may submit comments to the Tonopah Field Station Manager at the above address. Any adverse comments will be reviewed by the State Director, who may sustain, vacate, or modify this realty action and issue a final determination. In the absence of timely filed objections this realty action will become the final determination of the Department of the Interior. The land will not be offered for sale until at least November 14, 2003.

Dated: August 12, 2003.
William S. Fisher,
Assistant Field Manager, Tonopah.

[FR Doc. 03-23442 Filed 9-12-03; 8:45 am]

BILLING CODE 4310-HC-P